DEPARTMENT OF COMMERCE

National Oceanic and Atmospheric Administration

[I.D. 050301G]

Endangered Species; Permits

AGENCY: National Marine Fisheries Service (NMFS), National Oceanic and Atmospheric Administration (NOAA), Commerce.

ACTION: Receipt of an application for a scientific research permit (1303); Receipt of request to modify research permit 1245; NMFS has issued permit 1297; NMFS has issued an amendment of enhancement permit 1237.

SUMMARY: Notice is hereby given of the following actions regarding permits for takes of endangered and threatened species for the purposes of scientific research and/or enhancement under the Endangered Species Act (ESA): NMFS has received an application for a scientific research permit from Dr. R. Michael Laurs, of Southwest Fisheries Science Center (SWFSC); NMFS has received a request to modify permit 1245 from Mr. Bruce Stender of the South Carolina Department of Natural Resources; NMFS has issued permit 1297 to Dr. Peter Dutton of the NMFS - Southwest Fisheries Science Center and an amendment of permit 1237 to the Walla Walla District of the U.S. Army Corps of Engineers at Walla Walla, WA.

DATES: Comments or requests for a public hearing on any of the new applications or modification requests must be received at the appropriate address or fax number no later than 5 p.m. eastern standard time on June 11, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

For permits 1245, 1297, 1303: Endangered Species Division, F/PR3, 1315 East West Highway, Silver Spring, MD 20910 (phone:301-713-1401, fax: 301-713-0376).

For permits 1237: Protected Resources Division, F/NWO3, 525 NE Oregon Street, Suite 500, Portland, OR 97232-2737 (phone: 503-230-5400, fax: 503-230-5435).

Documents may also be reviewed by appointment in the Office of Protected Resources, F/PR3, NMFS, 1315 East-West Highway, Silver Spring, MD 20910-3226 (phone:301-713-1401).

FOR FURTHER INFORMATION CONTACT: For permits 1245, 1297, 1303: Terri Jordan, Silver Spring, MD (phone: 301-713-1401, fax: 301-713-0376, e-mail: Terri.Jordan@noaa.gov)

For permits 1237: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in this Notice

The following species and evolutionary significant units (ESUs) are covered in this notice:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Threatened and endangered Olive ridley turtle (Lepidochelys olivacea)

Fish

Sockeye salmon (Oncorhynchus nerka): endangered Snake River (SnR).

Chinook salmon (O. tshawytscha): endangered, naturally produced and artificially propagated, upper Columbia River (UCR) spring; threatened, naturally produced and artificially propagated, SnR spring/summer.

Steelhead (O. mykiss): endangered, naturally produced and artificially propagated, UCR; threatened SnR; threatened middle Columbia River.

New Applications Received

Application 1303

The applicant requests authorization to allow take of listed sea turtles while conducting experiments on methods for reducing sea turtle take by longline fisheries in the Pacific Ocean and to allow import of living, deeply hooked sea turtles for treatment and rehabilitation. The applicant proposes to take a total of 15 green, 43 leatherback, 221 loggerhead and 24 olive ridley turtles over the three-year life of the permit. This application is available for download and review from the Office of Protected Resources permitting web site: http://www.nmfs.noaa.gov/prot_res/PR3/Permits/ESAPermit.html.

Modification Requests Received

Permit #1245

The applicant requests a modification to Permit 1245. Permit 1245 authorizes the take of listed sea turtles for scientific research purposes. Permit #1245 authorizes the take of 250 loggerhead, 10 green, 50 Kemp's ridley, five hawksbill and one leatherback turtles annually. Modification #2 would authorize researchers to intubate and ventilate a turtle verified to be unconscious, allow researchers to collect skin biopsies from each turtle, collect an additional biopsy of any abnormal growth and to collect a keratin sample from the carapace of each turtle for mercury content analysis.

Permits and Modified Permits Issued

Permit #1297

Notice was published on March 5, 2001 (66 FR 13305) that Donna McDonald, of Ocean Planet Research, Incorporated applied for a scientific research permit (1297).

The purpose of this project is to continue long-term monitoring of the status of sea turtles in San Diego Bay. Numbers present, species, size, sex, health status, and presence or absence of tag will be recorded. Permit 1297 was issued on April 27, 2001, authorizing take of listed species. Permit 1297 expires May 31, 2006.

Permit #1237

Notice was published on February 16, 2000 (65 FR 7855) that the Corps applied for an enhancement permit (1237). Permit 1237 was issued to the Corps on March 22, 2001 (see 66 FR 18447, April 9, 2001). Permit 1237 authorizes the Corps annual takes of ESA-listed Snake River salmon and steelhead associated with transporting juvenile anadromous fish around the dams and past the reservoirs on the mainstem lower Snake and Columbia Rivers in the Pacific Northwest. The purpose of the Corps’ Juvenile Fish Transportation Program is to increase juvenile fish survival over the alternative of in-river passage, given existing in-river migratory conditions. On April 26, 2001, NMFS issued an amendment of enhancement permit 1237. For the permit amendment, the Corps is authorized takes of ESA-listed fish species associated with juvenile fish transport at McNary Dam on the lower Columbia River during the spring 2001 juvenile salmonid outmigration season. The Corps requested the additional ESA-listed fish takes (associated with spring transport at McNary Dam) in its original permit application (see 65 FR 7855, February 16, 2000). Since the beginning of 2001, forecasted river conditions and anticipated estimates of the project passage survival of juvenile fish migrating in the lower Columbia River during 2001 have progressively deteriorated. It now appears that the survival rate of spring-migrating juvenile salmonids between McNary Dam and Bonneville Dam may be lower than previously expected for the 2001 juvenile salmonid outmigration season. Therefore, NMFS has determined that spring transport at McNary Dam by the Corps will not operate to the disadvantage of the ESA-listed fish in 2001. The Corps will load the juvenile fish into aerated trucks and barges for transportation to below Bonneville Dam on the Columbia River. Further handling of the fish does not occur, except for loading via raceways or when the fish are handled for monitoring purposes by Corps personnel or for scientific research purposes by individuals holding separate take authorizations. The amendment is valid for the duration of Permit 1237. However, the conduct of spring transport at McNary Dam in future years will be subject to annual approval by NMFS. Additional annual takes of ESA-listed adult fish associated with handling fallbacks at the juvenile fish transportation facility at McNary Dam are also authorized by the permit amendment. Permit 1237 expires on December 31, 2005.

Dated: May 4, 2001.
Chris Mobley,
Acting Chief, Endangered Species Division, Office of Protected Resources, National Marine Fisheries Service.

[FR Doc. 01-11839 Filed 5-9-01; 8:45 am]

BILLING CODE 3510-22-S